DEPARTMENT OF AGRICULTURE

Submission for OMB Review; Comment Request

September 30, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by November 5, 2014 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Animal Health Monitoring System (NAHMS); Equine 2015 Study.

OMB Control Number: 0579-0269.

Summary of Collection: Collection and dissemination of animal health and information is mandated by 7 U.S.C. 391, the Animal Industry Act of 1884, which established the precursor of the Animal and Plant Health Inspection Service (APHIS), Veterinary Services, the Bureau of Animal Industry. Legal requirements for examining and reporting on animal disease control methods were further mandated by 7 U.S.C. 8308 of the Animal Health Protection Act, “Detection, Control, and Eradication of Diseases and Pests,” May 13, 2002. NAHMS will initiate the third national equine health and management data collection through the Equine 2015 Study. The information collected through the Equine 2015 Study will be analyzed and organized into one or more descriptive reports. The Equine 2015 Study is a part of an ongoing series of NAHMS studies on the U.S. equine population.

Need and Use of the Information: APHIS will use the data collected to: (1) Serve stakeholders by estimation of trends in national and regional equine health, movement and management, (2) Address emerging issues; (3) Examine the economic impact of health management practices; (4) Provide data to be used when decisions regarding intervention in a disease outbreak are required; (5) Provide input into the design of surveillance systems for specific diseases; (6) Provide cost estimates of selected aspects of equine health care to better inform those planning to enter into equine ownership of the cost of equine health care. Without the NAHMS data the United States would not be able to assess the potential risk to human health from pathogens associated with equids or shared with equids, such as encephalidities.

Description of Respondents: Business or other for-profit.

Number of Respondents: 16,916.

Frequency of Responses: Reporting: On occasion.

Total Burden Hours: 13,606.

Ruth Brown,
Departmental Information Collection Clearance Officer.

[FR Doc. 2014-23709 Filed 10-3-14; 8:45 am]

BILLING CODE 3410-34-P